DEPARTMENT OF AGRICULTURE

Commodity Credit Corporation

Notice of Funds Availability: Inviting Applications for the Technical Assistance for Specialty Crops Program

SUMMARY: The Commodity Credit Corporation (CCC) announces that it is inviting proposals for the 2018 Technical Assistance for Specialty Crops (TASC) program. The intended effect of this notice is to solicit proposals from the private sector and from government agencies for fiscal year 2018 and to set out the criteria for the awarding of funds under the program. The TASC program is administered by personnel of the Foreign Agricultural Service (FAS).

DATES: To be considered for funding, proposals must be received by 5 p.m. Eastern Daylight Time, June 19, 2017. Any proposals received after this time will be considered only if funds remain available.

FOR FURTHER INFORMATION CONTACT: Applicants needing assistance should contact Curt Alt in the Program Operations Division, Office of Trade Programs, Foreign Agricultural Service by courier: Room 6512, 1400 Independence Ave. SW., Washington, DC 20250, or by phone: (202) 720-4327, or by fax: (202) 720-9361, or by email: podadmin@fas.usda.gov. Information is also available on the FAS Web site at http://www.fas.usda.gov/programs/technical-assistance-specialty-crops-tasc.

SUPPLEMENTARY INFORMATION:

A. Funding Opportunity Description

Announcement Type: New.

Catalog of Federal Domestic Assistance (CFDA) Number: 10.604.

Authority: The TASC program is authorized by section 3205 of Public Law 107-171. The TASC regulations appear at 7 CFR part 1487.

Purpose: The TASC program is designed to assist U.S. organizations by providing funding for projects that address sanitary, phytosanitary, or technical barriers that prohibit or threaten the export of U.S. specialty crops. U.S. specialty crops, for the purpose of the TASC program, are defined to include all cultivated plants, or the products thereof, produced in the United States except wheat, feed grains, oilseeds, cotton, rice, peanuts, sugar, and tobacco.

As a general matter, TASC proposals should be designed to address the following criteria:

• Projects should identify and address a clear sanitary, phytosanitary, or technical barrier that prohibits or threatens the export of U.S. specialty crops;

• Projects should demonstrably benefit the represented industry rather than a specific company or brand;

• Projects must address barriers to exports of commercially-available U.S. specialty crops;

• Projects should include an explanation as to what specifically could not be accomplished without Federal funding assistance and why the eligible organization(s) would be unlikely to carry out the project without such assistance; and

• Projects should include performance measures for quantifying progress and demonstrating results. In the development of performance measures, FAS believes the measures should meet the following criteria:

○ Aligned: The indicator should, as closely as possible, measure exactly the relevant result.

○ Clear: The indicator should be precise and unambiguous about what is being measured and how. There should be no doubt on how to measure or interpret the indicator.

○ Quantifiable: The indicator(s) should sufficiently capture all of the elements of a result.

○ Include an identified methodology: The data can be obtained to inform the indicator in a timely and efficient manner and the data are of high-quality.

The full set of indicators selected to monitor project performance should be sufficient to inform project management and oversight.

Examples of project expenses that CCC may agree to reimburse under the TASC program include, but are not limited to: Initial pre-clearance programs, export protocol and work plan support, seminars and workshops, study tours, field surveys, development of pest lists, pest, disease, and fumigant research, reasonable logistical and administrative support, and travel and per diem expenses.

B. Award Information

In general, all qualified proposals received before the submission deadline will compete for funding. The limited funds available and the wide range of barriers affecting the exports of U.S. specialty crops worldwide preclude CCC from approving large budgets for individual projects. Proposals requesting more than $500,000 in any given year will not be considered. Additionally, funding will not be provided for projects that have received TASC funding for five years. The five years do not have to be consecutive. Eligible organizations may submit multi-year proposals. Funding in such cases may, at FAS' discretion, be provided one year at a time with commitments beyond the first year subject to interim evaluations and funding availability. In order to validate funding eligibility, proposals must specify previous years of TASC funding for each proposed activity/title/market/constraint combination. Government entities are not eligible for multi-year funding.

Applicants may submit more than one proposal, and applicants with previously approved TASC proposals may apply for additional funding. However, the maximum number of approved projects that a TASC participant can have underway at any given time is five. Please see 7 CFR part 1487 for additional restrictions. FAS will review all proposals against the evaluation criteria contained in the program regulations.

Funding for successful proposals will be provided through specific agreements. These agreements will incorporate the proposal as approved by FAS. FAS must approve in advance any subsequent changes to the agreement. FAS or another Federal agency may be involved in the implementation of approved agreements.

C. Eligibility Information

1. Eligible Organizations: Any U.S. organization, private or government, with a demonstrated role or interest in exporting U.S. agricultural specialty crops may apply to the program. Government organizations consist of Federal, State, and local agencies. Private organizations may include non-profit trade associations, universities, agricultural cooperatives, state regional trade groups, and private companies.

Foreign organizations, whether government or private, may participate as third parties in activities carried out by eligible organizations, but are not eligible for direct funding assistance through the program.

2. Cost-Sharing or Matching: FAS considers the applicant's willingness to contribute resources towards the project, including cash, goods, and services of the U.S. industry and foreign third parties, when determining which proposals are approved for funding.

3. Funding Justification: Proposals should include a justification for funding assistance from the program—an explanation as to what specifically could not be accomplished without Federal funding assistance and why the participating organization(s) would be unlikely to carry out the project without such assistance.

D. Application and Submission Information

1. Application through the Unified Export Strategy (UES) System: Organizations are strongly encouraged to submit their applications to FAS through the web-based UES application. Using the UES application process reduces paperwork and expedites FAS' processing and review cycle. Applicants planning to use the UES system must first contact FAS' Program Operations Division to obtain site access information, including a user ID and password. The UES Internet-based application may be found at the following URL address: https://www.fas.usda.gov/ues/webapp/.

Although FAS highly recommends applying via the web-based UES, applicants have the option of submitting an application to FAS via email at podadmin@fas.usda.gov.

Applicants experiencing difficulty or otherwise needing assistance applying to the program should contact the Program Operations Division, Office of Trade Programs, Foreign Agricultural Service by courier: Room 6512, 1400 Independence Ave. SW., Washington, DC 20250, or by phone: (202) 720-4327, or by fax: (202) 720-9361, or by email: podadmin@fas.usda.gov.

2. Content and Form of Application Submission: All TASC proposals must contain complete information about the proposed projects as described in § 1487.5(b) of the TASC program regulations. In addition, in accordance with the Office of Management and Budget's policy directive (68 FR 38402 (June 27, 2003)) regarding the need to identify entities that are receiving government awards, all applicants must submit a Dun and Bradstreet Data Universal Numbering System (DUNS) number. An applicant may request a DUNS number at no cost by calling the dedicated toll-free DUNS number request line at (866) 705-5711.

In addition, in accordance with 2 CFR part 25, each eligible organization that applies to the TASC and does not qualify for an exemption under 2 CFR 25.110 must:

(i) Provide a valid DUNS number in each application it submits to CCC;

(ii) Be registered in the System for Award Management (SAM) prior to submitting an application; and

(iii) Continue to maintain an active SAM registration with current information at all times during which it has an active Federal award or an application under consideration by CCC.

FAS may not make an award to an applicant until the applicant has complied with all applicable unique entity identifier and SAM requirements, and, if an applicant has not fully complied with the requirements by the time FAS is ready to make the award, FAS may determine that the applicant is not qualified to receive the award and use that determination as a basis for making an award to another applicant.

Similarly, in accordance with 2 CFR part 170, each eligible organization that applies to the TASC program and does not qualify for an exception under 2 CFR 170.110(b) must ensure it has the necessary processes and systems in place to comply with the applicable reporting requirements of 2 CFR part 170 should it receive TASC funding.

Incomplete proposals or proposals that do not otherwise conform to this announcement will not be accepted for review.

3. Submission Dates and Times: TASC proposals are reviewed on a rolling basis during the fiscal year as long as TASC funding is available as set forth below:

• Proposals received by 5 p.m. Eastern Daylight Time, June 19, 2017, will be considered for funding with other proposals received by that date;

• Proposals not approved for funding during the initial review period will be reconsidered for funding after the review period only if the applicant specifically requests such reconsideration in writing and only if funding remains available;

• Proposals received after 5 p.m. Eastern Daylight Time, June 19, 2017, will be considered for funding in the order received only if funding remains available.

FAS will track the time and date of receipt of all proposals.

4. Funding Restrictions: Although funded projects may take place in the United States or abroad, all eligible projects must specifically address sanitary, phytosanitary, or technical barriers to the export of U.S. specialty crops.

Certain types of expenses are not eligible for reimbursement by the program, such as the costs of market research, advertising, or other promotional expenses, and will be set forth in the written program agreement between CCC and the participant. CCC will also not reimburse unreasonable expenditures or any expenditure made prior to the approval of a proposal.

5. Other Submission Requirements: All applications submitted through the UES must be received by 5 p.m., Eastern Daylight Time, June 19, 2017, in order to be considered for funding; late submissions received after the deadline will be considered only if funding remains available. All applications submitted by email must be received at podadmin@fas.usda.gov by 5 p.m. Eastern Daylight Time, June 19, 2017, in order to receive the same consideration.

E. Application Review Information

1. Criteria: FAS follows the evaluation criteria set forth in § 1487.6 of the TASC regulations. Reviewers will evaluate according to the following criteria:

(1) The nature of the specific export barrier and the extent to which the proposal is likely to successfully remove, resolve, or mitigate that barrier (12.5%);

(2) The potential trade impact of the proposed project on market retention, market access, and market expansion, including the potential for expanding commercial sales in the targeted market (12.5%);

(3) The completeness and viability of the proposal. Among other things, this can include the cost of the project and the amount of other resources dedicated to the project, including cash, goods, and services of the U.S. industry and foreign third parties (15%);

(4) The ability of the organization to provide an experienced staff with the requisite technical and trade experience to execute the proposal (15%);

(5) The extent to which the proposal is targeted to a market in which the United States is generally competitive (17.5%);

(6) The degree to which time is essential to addressing specific export barriers (5%);

(7) The ability of the applicant to provide a broad base of producer representation (12.5%); and

(8) The effectiveness of the performance measures and potential of the performance measures to measure project results (10%).

2. Review and Selection Process: FAS will review proposals for eligibility and will evaluate each proposal against the criteria referred to above. The purpose of this review is to identify meritorious proposals, recommend an appropriate funding level for each proposal based upon these factors, and submit the proposals and funding recommendations to the Deputy Administrator, Office of Trade Programs. FAS may, when appropriate, request the assistance of other U.S. government subject area experts in evaluating the merits of a proposal.

In addition, FAS, prior to making a Federal award with a total amount of Federal share greater than the simplified acquisition threshold, is required to review and consider any information about the applicant that is in the designated integrity and performance system accessible through SAM (currently FAPIIS) (see 41 U.S.C. 2313). An applicant, at its option, may review information in the designated integrity and performance systems accessible through SAM and comment on any information about itself that a Federal awarding agency previously entered and is currently in the designated integrity and performance system accessible through SAM. FAS will consider any comments by the applicant, in addition to the other information in the designated integrity and performance system, in making a judgment about the applicant's integrity, business ethics, and record of performance under Federal awards when completing the review of risk posed by applicants as described in 2 CFR 200.205 “Federal awarding agency review of risk posed by applicants.”

F. Award Administration Information

1. Federal Award Notices: FAS will notify each applicant in writing of the final disposition of the submitted application. FAS will send an approval letter and agreement to each approved applicant. The approval letter and agreement will specify the terms and conditions applicable to the project, including levels of funding, timelines for implementation, and reporting requirements.

2. Administrative and National Policy Requirements: The agreements will incorporate the details of each project as approved by FAS. Each agreement will identify terms and conditions pursuant to which CCC will reimburse certain costs of each project. Agreements will also outline the responsibilities of the participant. Interested parties should review the TASC program regulations found at 7 CFR part 1487 in addition to this announcement. TASC program regulations are available at the following URL address: http://www.fas.usda.gov/programs/technical-assistance-specialty-crops-tasc.

3. Reporting: TASC participants will be required to submit annual interim reports and a final performance report, each of which evaluate the TASC project using the performance measures presented in the approved proposal, as set forth in the written program agreement.

G. Federal Awarding Agency Contact

For additional information and assistance, contact the Program Operations Division, Office of Trade Programs, Foreign Agricultural Service, U.S. Department of Agriculture by courier: Room 6512, 1400 Independence Ave. SW., Washington, DC 20250, or by phone: (202) 720-4327, or by fax: (202) 720-9361, or by email: podadmin@fas.usda.gov.

Signed at Washington, DC, on the 12th of May 2017.
Holly Higgins,
Acting Administrator, Foreign Agricultural Service, and Acting Vice President, Commodity Credit Corporation.

[FR Doc. 2017-10106 Filed 5-18-17; 8:45 am]

BILLING CODE 3410-10-P